DEPARTMENT OF THE TREASURY

Office of the Comptroller of the Currency

12 CFR Parts 4, 5, 7, 14, 24, 32, 34, 100, 116, 143, 144, 145, 146, 150, 152, 159, 160, 161, 162, 163, 174, 192, 193

[Docket ID OCC-2014-0007]

RIN 1557-AD80

Integration of National Bank and Federal Savings Association Regulations: Licensing Rules

Correction

In rule document 2015-11229 beginning on page 28346 in the issue of Monday, May 18, 2015, make the following correction:

Appendix 1 to Part 24 [Corrected]

On pages 28475 through 28477, in Appendix 1 to Part 24, the form should appear as follows:

BILLING CODE 1505-01-D

[FR Doc. C2-2015-11229 Filed 6-12-15; 8:45 am]

BILLING CODE 1505-01-C